DEPARTMENT OF ENERGY

Federal Energy Regulatory Commission

Combined Notice of Filings

Take notice that the Commission has received the following Natural Gas Pipeline Rate and Refund Report filings:

Filings Instituting Proceedings

Docket Number: PR18-82-000.

Applicants: Banquete Hub LLC.

Description: Tariff filing per 284.123(b),(e)/: Baseline Filing—Banquete Hub SOC and the Errata to be effective 10/1/2018.

Filed Date: 9/19/18.

Accession Number: 201809195092.

Comments/Protests Due: 5 p.m. ET 10/10/18.

Docket Numbers: RP18-1192-000.

Applicants: Texas Eastern Transmission, LP.

Description: Compliance filing TETLP OFO September 2018 Penalty Disbursement Report.

Filed Date: 9/20/18.

Accession Number: 20180920-5031.

Comments Due: 5 p.m. ET 10/2/18.

Docket Numbers: RP18-1193-000.

Applicants: Enable Gas Transmission, LLC.

Description: § 4(d) Rate Filing: Fuel Tracker Filing Effective November 1, 2018 to be effective 11/1/2018.

Filed Date: 9/20/18.

Accession Number: 20180920-5047.

Comments Due: 5 p.m. ET 10/2/18.

Docket Numbers: RP18-1194-000.

Applicants: Enable Mississippi River Transmission, LLC.

Description: 2018 Annual Penalty Revenue Credit Filing.

Filed Date: 9/20/18.

Accession Number: 20180920-5151.

Comments Due: 5 p.m. ET 10/2/18.

Docket Numbers: RP18-1195-000.

Applicants: Enable Gas Transmission, LLC.

Description: Annual Report of Total Penalty Revenue Credits of Enable Gas Transmission, LLC.

Filed Date: 9/20/18.

Accession Number: 20180920-5152.

Comments Due: 5 p.m. ET 10/2/18.

Docket Numbers: RP18-1196-000.

Applicants: Enable Gas Transmission, LLC.

Description: Annual Report of Linked Firm Service Penalty Revenue Credits of Enable Gas Transmission, LLC.

Filed Date: 9/20/18.

Accession Number: 20180920-5153.

Comments Due: 5 p.m. ET 10/2/18.

Docket Numbers: RP18-1197-000.

Applicants: Enable Mississippi River Transmission, LLC.

Description: § 4(d) Rate Filing: 2018 MRT Annual Fuel Filing to be effective 11/1/2018.

Filed Date: 9/20/18.

Accession Number: 20180920-5157.

Comments Due: 5 p.m. ET 10/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2018.
Nathaniel J. Davis, Sr.,
Deputy Secretary.

[FR Doc. 2018-21128 Filed 9-27-18; 8:45 am]

BILLING CODE 6717-01-P